DEPARTMENT OF HEALTH AND HUMAN SERVICES

Centers for Disease Control and Prevention

[30-Day-08-07AL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call 404-639-5960 or send an e-mail to omb@cdc.gov. Send written comments to CDC Desk Officer, Office of Management and Budget, Washington, DC, or by fax to (202) 395-6974. Written comments should be received within 30 days of this notice.

Notice of Correction to Burden Table

Proposed Project

Evaluation of the Successful Business Strategies to Prevent Heart Disease and Stroke Toolkit—NEW—Division for Heart Disease and Stroke Prevention (DHDSP), National Center for Chronic Disease Prevention and Health Promotion (NCCDPHP), Centers for Disease Control and Prevention (CDC).

Description of Correction

The previous 30-day Federal Register Notice (FRN) published August 31, 2007, Volume 72, No. 169, Pages 50371-50372, was submitted with an error showing the number of respondents as 51. This correction reduces the number of respondents from 51 to 25.

Background and Brief Description

Under Part C (Centers for Disease Control and Prevention) of the Statement of Organization Functions, and Delegations of Authority of the Department of Health and Human Services (45 FR 67772-76, dated October 14, 1980, and corrected at 45 FR 69296, October 20, 1980, as amended most recently at 70 FR 72842-72843, dated December 7, 2005), the Division for Heart Disease and Stroke Prevention, National Center for Chronic Disease Prevention and Health Promotion, Centers for Disease Control and Prevention was established. This Division plans, directs, and coordinates programs to reduce morbidity, risk factors, costs, disability, mortality, and disparities associated with heart disease, stroke, and other cardiovascular disease outcomes. Under this Division, formative research was conducted to identify effective interventions and promising practices for preventing heart disease and stroke at the work site. In 2005, this research resulted in the development of a Successful Business Strategies to Prevent Heart Disease and Stroke Toolkit. The toolkit provides state programs with suggestions about which health benefits, services, and interventions can improve employee cardiovascular health, prevent heart disease and stroke, and reduce related costs. The second phase of this project focuses on disseminating and evaluating the Successful Business Strategies to Prevent Heart Disease and Stroke Toolkit.

As part of the Toolkit evaluation, the CDC has employed contractor support to design and conduct a Web-based survey of State Health Departments to gather information on their experiences with the Toolkit. The contractor will collect and analyze all data from this survey. The CDC has also contracted to make revisions to the toolkit based on results of this survey, ongoing feedback from the States, and feedback from employers through interviews. The Centers for Disease Control and Prevention (CDC) is seeking a 6-month Office of Management and Budget (OMB) approval for implementing the Web-based survey.

There are no costs to respondents except for their time to complete the survey. The total estimated annualized burden hours are 13.

Estimated Annualized Burden Hours
Type of respondents | Form name | Number of respondents | Number of responses per respondent | Average burden per response (in hrs.)
State Heart Disease and Stroke Programs | Web-based survey on CVH Toolkit | 25 | 1 | 30/60

Dated: October 25, 2007.
Maryam I. Daneshvar,
Acting Reports Clearance Officer, Centers for Disease Control and Prevention.

[FR Doc. E7-21666 Filed 11-2-07; 8:45 am]

BILLING CODE 4163-18-P